FEDERAL ELECTION COMMISSION

Sunshine Act Notices

PREVIOUSLY ANNOUNCED DATE & TIME: Thursday, December 11, 2003, 10 a.m. Meeting open to the public.

The following item was added to the agenda: Electioneering Communications Dates. The following item was withdrawn from the agenda: Eligibility Report—John R. Edwards/Edwards for President.

DATE AND TIME: Monday, December 15, 2003, at 10 a.m.

PLACE: 999 E Street, NW., Washington, DC.

STATUS: This meeting will be closed to the public.

ITEMS TO BE DISCUSSED:

Compliance matters pursuant to 2 U.S.C. § 437g.

Audits conducted pursuant to 2 U.S.C. 437g, 438(b), and Title 26, U.S.C.

Matters concerning participation in civil actions or proceedings or arbitration.

Internal personnel rules and procedures or matters affecting a particular employee.

DATE AND TIME: Thursday, December 18, 2003, at 10 a.m.

PLACE: 999 E Street, NW., Washington, DC (ninth floor).

STATUS: This meeting will be closed to the public.

ITEMS TO BE DISCUSSED:

Correction and Approval of Minutes.

Merit and Service Awards.

Election of Officers.

Draft Advisory Opinion 2003-30: Fitzgerald for Senate Committee and Senator Peter Fitzgerald by counsel, Benjamin L. Ginsberg and Glenn M. Willard.

Draft Advisory Opinion 2003-34: Viacom, Inc., Networks, Inc. (Showtime), and TMD Productions, Inc., by counsel, Jan Witold Baran.

Future Meeting Dates.

Routine Administrative Matters.

FOR FURTHER INFORMATION CONTACT: Mr. Ron Harris, Press Officer, Telephone: (202) 694-1220.

Mary W. Dove,
Secretary of the Commission.

[FR Doc. 03-30819 Filed 12-9-03; 3:00 pm]

BILLING CODE 6715-01-M